DEPARTMENT OF COMMERCE

Bureau of the Census

[Docket Number 010209034-1162-02]

RIN 0607-XX63

Urban Area Criteria for Census 2000—Proposed Criteria

AGENCY: Bureau of the Census, Department of Commerce.

ACTION: Notice of proposed criteria; reopening for public comment; Correction.

SUMMARY: On March 28, 2001 (66 FR 17018), the Bureau of the Census (Census Bureau) published a Notice of Proposed Criteria and Request for Public Comment concerning its proposed criteria for defining urban and rural population. In response to numerous public comments, the Census Bureau is reopening the comment period for 30 days. In addition, the Census Bureau is including corrections, clarifications, and additional information to its original notice.

DATES: Comments must be received by August 27, 2001.

ADDRESSES: Address all written comments to the Director, U.S. Census Bureau, Room 2049, Federal Building 3, Washington, DC 20233-0001.

FOR FURTHER INFORMATION, CONTACT: Robert Marx, Chief, Geography Division, U.S. Census Bureau, Washington, DC 20233-7400; telephone (301) 457-2131, or e-mail (ua@geo.census.gov).

SUPPLEMENTARY INFORMATION: On March 28, 2001 (66 FR 17018), the Census Bureau published a Notice of Proposed Criteria and Request for Public Comment concerning its proposed criteria for defining urban and rural population. In response to numerous public comments, the Census Bureau is reopening the comment period for 30 days. In addition, the Census Bureau is including corrections, clarifications, and additional information to its original notice.

Note: None of the following information represents a substantive change to the original proposed criteria.

Corrections

The Census Bureau is providing the following corrections to the original notice.

Page 17018, Column 3, Section I.A.3., fourth line of that section: “* * * that are contiguous with the census BGs and census blocks identified * * *.” is corrected to read “* * * that are contiguous with the census BGs identified * * *.” This correction is being made to correct an error that referenced census blocks.

Page 17019, Column 1, Section I.B., first line of that section: “Census BGs and/or census blocks adjacent to a UA or UC core consists of the following:” is corrected to read, “Census BGs and/or census blocks that are noncontiguous to the interim core of a UA or UC (area defined by criteria I.A.1. through 7.) may be added to the UA or UC as follows:” This correction is being made to clarify the spatial relationship of nearby BGs and census blocks to UA and UC cores by using the term “noncontiguous” instead of “adjacent,” and also to provide a better identification of the version of the UA and UC cores at this stage of delineation.

Page 17019, Column 2, Section I.B.2.a.(1), first line of that section: “adjacent to” is corrected to read “conjoint with.” This is to clarify the spatial relationship of a qualifying area to a road connection.

Page 17019, Column 2, Section I.B.2.a.(3), fifteenth line of that section: “I.B.1.b.” is corrected to read “I.B.2.a.” This is to correct a typographical error.

Page 17019, Column 2, Section I.B.2.b.(2), ninth line of that section: “I.B.1.b.” is corrected to read “I.B.2.b.” This is to correct a typographical error.

Page 17019, Column 2, Section I.B.2.c., first line of that section: “The Census Bureau will include uninhabitable territory to the main body of the core or adjacent qualifying territory if the area to connect it is within 5 road miles, and as long as the 5 miles include no more than 2.5 miles of otherwise habitable territory” is corrected to read, “The Census Bureau will include additional densely settled noncontiguous area in a UA or UC using a connection of up to 5 road miles, provided that the connection contains uninhabitable territory and that no more than 2.5 miles of the road connection is across habitable territory.” This correction is provided to clarify the criteria for linking a qualifying area to a UA or UC core via a jump that includes uninhabitable territory.

Page 17019, Column 2, footnote 6, first line of that footnote: “Uninhabitable territory is defined as territory in which residential development is not possible; that is, it consists of bodies of water, national parks and monuments, and military installations' is corrected to read, “Uninhabitable territory is defined as territory within bodies of water, national parks and monuments, and military bases where residential development is not possible.” This correction is provided to clarify the definition of uninhabitable territory.

Page 17019, Column 3, Section I.B.2.c.(2), eighth line of that section: “I.B.1.a.” is corrected to read “I.B.2.b.” This is to correct a typographical error.

Page 17022, Column 1, Section VII.C., first data line in the table: “Bristol, VA” is corrected to read “Bristol, TN—Bristol, VA.” This is to correct a typographical error.

Page 17022, Column 1, Section VII.C., second data line in the table: “47,282” is corrected to read “37,720.” This is to correct a computation error that mistakenly included population from the St. Simons area.

Page 17022, Column 2, Section VII.A., first line of that section: “A.” is corrected to read “D.” This is to correct a typographical error.

Clarifications

In response to many questions regarding the application of the criteria, the Census Bureau is providing the following clarifications of the proposed criteria.

Page 17019, Column 1, Section I.A.4.: This section applies to building the initial core of a UA or UC by adding blocks with a minimum population density of 500 people per square mile (ppsm) to those areas that qualify based on the criteria in Sections I.A.1. through 3. To clarify, all blocks that have the minimum density of 500 ppsm and are contiguous to each other are added in their entirety to the initial core, as long as one of these blocks is contiguous to a block or BG that qualifies based on the criteria in Sections I.A.1. through 3. This clarification is provided because of the number of questions that were received regarding how blocks are added to the core.

Page 17019, Column 1, Sections I.A.5. and I.B.2.: These sections make reference to population density criteria. To clarify, all calculations of population density for adding noncontiguous areas to a UA or UC core include the population and habitable land area of all qualifying and linking blocks. This clarification is provided because of the number of questions that were received regarding how blocks are added to the core via hops and jumps.

Page 17019, Column 1, Sections I.A.5. and I.B.2.: These sections make reference to distance criteria for hops and jumps. To clarify, distance measurements are based on measuring the road connection between blocks that have a minimum density of 500 ppsm. This clarification is provided because of the number of questions that were received regarding how hops and jumps are measured.

Page 17019, Column 1, Section I.B.2.: This section refers to “densely settled noncontiguous territory.” The reference is to the blocks that qualify as such, as specified in Section I.B.1. This clarification is provided to identify the area referred to as densely settled, noncontiguous territory.

Page 17019, Column 1, Section I.B.2.a.: This section refers to adding noncontiguous qualifying area to the main body of a core. To clarify, the reference to “main body” refers to the area of the core that qualifies based on the criteria in Sections I.A.1. through 7. This clarification is provided to identify what constitutes a core at this point in the delineation process.

Page 17019, Column 2, Section I.B.2.a.(3): The second paragraph of this section refers to the Census Bureau's criteria that place a limit of only one jump to noncontiguous qualifying area along the same road connection. To clarify, the Census Bureau will permit an additional jump for an interim core that has a population of 50,000 or greater when the interim core is connected to a larger core via a jump connection. This clarification is provided to explain the condition under which a second jump may occur.

Page 17020, Column 2, Section IV.A.: This section contains criteria for splitting UAs and specifies that 3 miles is the maximum distance for determining if a split can occur. To clarify, the distance is based on a straight-line measurement from one edge of the UA to the other edge. If a split qualifies, the actual UA boundary will follow block boundaries that deviate the least distance from that straight line. This clarification is provided to explain how the Census Bureau will measure to determine if a narrow section meets part of the UA split criteria.

Additional Information

Page 17019, Column 2, footnote 6: This footnote provides the definition of uninhabitable area. The Census Bureau has identified two 1990 UAs, using 1990 census data, where significant portions of the UAs would be excluded under the proposed criteria specified in footnote 6. The Arkansas portion (1990 census population, 34,600) of the 1990 Memphis, TN-AR-MS UA (i.e., potential West Memphis UC) and the Kentucky portion (1990 census population, 26,517) of the 1990 Evansville, IN-KY UA (i.e., potential Henderson UC) would be excluded from their respective UAs. In both cases, the 1990 UA delineation included these areas in the UAs by identifying an undevelopable jump where a flood plain prohibits development. The proposed criteria do not include flood plains in the list of situations that define uninhabitable territory, and the distance of the road connections across the flood plains (considered as habitable land under the proposed criteria) exceeds the maximum standard jump distance of 2.5 miles. While the Kentucky portion of the 1990 Evansville UA (i.e., Henderson and surrounding area) and the Arkansas portion of the 1990 Memphis UA (i.e., West Memphis and surrounding area) do not qualify as UA components by using 1990 data and Census 2000 proposed criteria, they do qualify as medium-size UCs when applying the aforementioned data and criteria (i.e., UCs with populations of 25,000 or greater).

Page 17020, Column 2, Section IV.: This section specifies the criteria to split UAs. Using 1990 census data, the following contiguous 1990 UAs would be merged because they do not meet all of the conditions as specified in the proposed UA split criteria and could not be separated into individual UAs:

San Francisco—Oakland, CA/Antioch—Pittsburg, CA

Palm Springs, CA/Indio—Coachella, CA

Simi Valley, CA/Oxnard—Ventura, CA (part) ¹

¹ Under the proposed criteria, using 1990 census data, only the eastern portion of the Oxnard—Ventura, CA UA (Agoura Hills, Camarillo, Thousand Oaks, and Westlake Village cities) would merge with the Simi Valley, CA UA. The remaining western portion of the Oxnard—Ventura, CA UA would be a separate UA under the proposed criteria. For the 1970 census, the Census Bureau defined the Oxnard—Ventura—Thousand Oaks, CA UA because the criteria permitted the combining of legal entities into a UA if their boundaries touched, which these communities did—and still do. The UA remained essentially unchanged for the 1980 and 1990 censuses due to the effect of grandfathering criteria that were in effect for the 1980 and 1990 census delineations. Under the proposed criteria, the two sections of the UA cannot be linked, because more than one jump must be used to connect the areas; the fact that the corporate limits touch is no longer a factor in the delineation.

Boulder, CO/Longmont, CO

Bridgeport—Milford, CT/New Haven—Meriden, CT/Norwalk, CT/

Stamford, CT—NY

Bristol, CT/Hartford—Middletown, CT/New Britain, CT

Annapolis, MD/Baltimore, MD/Washington, DC—MD—VA

Fort Lauderdale—Hollywood—Pompano Beach, FL/Miami—Hialeah, FL/West Palm Beach—Boca Raton—Delray Beach, FL

Fort Pierce, FL/Stuart, FL

Honolulu, HI/Kailua, HI

Aurora, IL/Chicago, IL—Northwestern Indiana/Crystal Lake, IL/Elgin, IL/Joliet, IL/Round Lake Beach—McHenry, IL—WI

Boston, MA/Brockton, MA/Lawrence—Haverhill, MA—NH/Lowell, MA—NH/Taunton, MA

Charlotte, NC/Gastonia, NC

Greensboro, NC/High Point, NC

Cleveland, OH/Lorain—Elyria, OH

Philadelphia, PA—NJ/Wilmington, DE—NJ—MD—PA

Dallas—Fort Worth, TX/Denton, TX/Lewisville, TX

Richmond, VA/Petersburg, VA

Salt Lake City, UT/Ogden, UT

Seattle, WA/Tacoma, WA

Page 17022, Section VII.C., table: This section lists four 1990 census UAs that would not qualify as UAs if the proposed criteria were applied using 1990 census population data. The Census Bureau has identified two additional 1990 UAs that would not qualify under the proposed criteria using 1990 census data:

• Lompoc, CA, 1990 UA population 56,591: This area would have a 1990 census population of 46,312 by applying the proposed criteria. The drop in population is attributed to removing the population that was contained on Vandenberg Air Force Base, where all of the population resided in large census blocks with population densities that were less than the required 500 ppsm.

• Cumberland, MD-WV, 1990 UA population 54,655: This area would have a 1990 census population of 40,130 by applying the proposed criteria. The drop in population is due primarily to removing the city of Frostburg from the UA. The 1990 UA delineation connected Frostburg to the Cumberland UA by identifying an “undevelopable jump” where steep topography impeded development. The proposed criteria do not include steep topography in the list of situations that define uninhabitable territory.

Dated: July 23, 2001.
William G. Barron, Jr.,
Acting Director, Bureau of the Census.

[FR Doc. 01-18809 Filed 7-26-01; 8:45 am]

BILLING CODE 3510-07-U